DEPARTMENT OF JUSTICE

Notice of Lodging of Consent Decree in In re Kaiser Aluminum Corporation Under the Comprehensive Environmental Response Compensation and Liability Act (CERCLA)

Notice is hereby given that on August 22, 2003, a proposed Consent Decree was lodged with the United States Bankruptcy Court for the District of Delaware in In re Kaiser Aluminum Corporation, No. 02-10429 (JKF) (Bankr. D. Del.). The Consent Decree among the United States on behalf of U.S. EPA, Department of Interior, National Oceanic and Atmospheric Administration of the Department of Commerce, the States of Rhode Island, and Washington, the State of California Department of Toxic Substances Control and the State of California Department of Fish and Game, the Puyallap Tribe of Indians, the Debtor Kaiser Aluminum Corporation and certain of its Debtor affiliates, including Kaiser Aluminum & Chemical Corporation, resolves CERCLA claims against the Debtors for the following 66 hazardous waste sites, denominated as “Liquidated Sites” under the Consent Decree: Aberdeen Pesticide Dumps Superfund Site in Aberdeen, NC; American Chemical Services Site in Griffith, IN; Aqua Tech Environmental Inc. Site in Greer, SC; ARRCOM Corporation Site in Kootenai County, ID; Bay Area Drum Site in San Francisco, CA; Bay Drums (a.k.a. Peak Oil Co.) Site in Brandon, FL; Bayou Sorrel Site in Bayou Sorrell, LA; Breslube Penn Superfund Site in Coroapolis, PA; Cannons Engineering Corporation Site in Bridgewater, MA, Plymouth, MA and Londenderry, NH and Gilson Road, a.k.a. Sylvester's in Nashua, NH; Casmalia Disposal Site in Santa Barbara County, CA; Center for Technology (a.k.a. CFT or Pleasanton Center for Technology) Site in Pleasanton, CA (with respect to the State of California only); Chemical Control Superfund Site in Elizabeth, NJ; Chemical Handling Corporation Site in Broomfield, CO; Coastal Radiation Services Site in St. Gabriel, LA; Combustion Inc. Site in Livingston, LA; Commencement Bay (Hylebos Waterway) Site in Tacoma, WA; Commercial Oil Services Site in Toledo, OH; Custom Distribution Services Site in Perth Amboy, NJ; Diamond State Salvage Yard in Wilmington, DE; Doepke-Holliday Site in Johnson County, KS; Douglassville Disposal/Berks Reclamation Site in Douglassville, PA; Dubose Oil Products Superfund Site in Cantonment, FL; Dutchtown Refinery Site in Dutchtown, LA; Eastern Diversified Metals Superfund Site in Hometown, PA; Ekotek (a.k.a. Petrochem Recycling) Site in Salt Lake City, UT; Ellis Road Site in Jacksonville, FL; Envirotek II Site in Tonawanda, NY; Ettlinger's Pit in Duval County, FL; Four County Landfill Site in De Long, IN; French Limited Site in Crosby, TX; Geigy Superfund Site in Aberdeen, NC; General Refining Site in Garden City, GA: Gibson Environmental, Inc. Site in Bakersfield, CA; Great Lakes Container Site in St. Louis, MO; Higgins Disposal Site in Somerset County, NJ; Hillsdale Drums Site in Hillsdale and Amite, LA; Huth Oil Services Site in Cleveland, OH; Laskin Poplar Site in Ashtabula County, OH; Liquid Disposal Site in Utica, MI; Liquid Dynamics Site in Chicago, IL; Lorentz Barrel & Drum Site in San Jose, CA; Marzone Site in Tipton, GA; Metamora Landfill Site in Lapeer County, MI; Moyer's Landfill Site in Collegeville, PA; Operating Industries, Inc. Corporation Site in Monterey Park, CA; Pickettville Road Landfill Site in Jacksonville, FL; PRC Patterson Site in Patterson, CA; Pristine, Inc. Site in Reading, OH; Quicksilver Products, Inc. Site in Brisbane, CA (with respect to the State of California only); Richmond Railyard Site in Richmond, CA; Richmond Shipyard No. 2 (a.k.a. Marina Bay Development) Site in Richmond, CA; Rouse Steel Drums Site in Jacksonville, FL; Sadler Drum Superfund Site in Mulberry, FL; Sand Springs Petrochemical Complex Site in Sand Springs, OK; Sea Cliff Marina Site in Richmond, CA (with respect to the State of California only); Spokane Junkyard in Spokane, WA; Stickney Ave. Landfill & Tyler St. Dump Site in Toledo, OH; Tacoma Reduction Facility Site in Tacoma, WA; Tex-Tin Site in Texas City, TX; Tremont City Landfill Site in Clark County, OH; Tri-County and Elgin Landfills Site in South Elgin, IL; Waste, Inc. Landfill Site in Michigan City, IN; West County Landfill Site in Contra Costa County, CA; West Virginia Ordnance Works (a.k.a. Point Pleasant Landfill) Site in Mason County, WV; XTRON Site in Blanding, UT; and Yellow Water Road Superfund Site in Baldwin, FL.

Under the Consent Decree, in addition to amounts previously paid, the Debtors have agreed to allowed claims in the total amount of $24,486,021. The Consent Decree also contains provisions pertaining to the treatment of four other categories of sites: Debtor-Owned Sites, Discharged Sites, Additional Sites, and Reserved Sites.

The Department of Justice will receive for a period of thirty (30) days from the date of this publication comments relating to the Consent Decree. Comments should be addressed to the Assistant Attorney General, Environment and Natural Resources Division, P.O. Box 7611, U.S. Department of Justice, Washington, DC 20044-7611, and should refer to In re Kaiser Aluminum Corp., D.J. Ref. 90-11-3-00769/1. Commenters may request an opportunity for a public meeting in the affected area, in accordance with Section 7003(d) of RCRA, 42 U.S.C. 6973(d).

The Consent Decree may be examined at the Office of the United States Attorney for the District of Delaware, 1201 Market Street, Suite 1100, Wilmington, DE, and at the United States Environmental Protection Agency, 401 M Street, SW., Washington, DC 20460. During the public comment period, the Consent Decree may also be examined on the following Department of Justice Web site, http://www.usdoj.gov/enrd/open.html. A copy of the Consent Decree may also be obtained by mail from the Consent Decree Library, P.O. Box 7611, U.S. Department of Justice, Washington, DC. 20044-7611 or by faxing or e-mailing a request to Tonia Fleetwood (tonia.fleetwood@usdoj.gov), fax no. (202) 514-0097, phone confirmation number (202) 514-1547. In requesting a copy from the Consent Decree Library, please enclose a check in the amount of $11.75 (25 cents per page reproduction cost) payable to the U.S. Treasury.

Bruce S. Gelber,
Section Chief, Environmental Enforcement Section, Environment and Natural Resources Division.

[FR Doc. 03-21919 Filed 8-26-03; 8:45 am]

BILLING CODE 4410-15-M